Title 3—

The President

Proclamation 10633 of September 29, 2023

Cybersecurity Awareness Month, 2023

By the President of the United States of America

A Proclamation

Digital technologies today touch nearly every aspect of American life—from our classrooms and communities, to our economy and national security. That is why—this Cybersecurity Awareness Month—my Administration renews our commitment to securing cyberspace and seizing the unlimited potential of our digital future.

From the start of my Administration, I have made cybersecurity a national security priority because cyber threats affect every sector of society, from the critical infrastructure that underpins our daily lives to the schools where we educate our children and the products we use in our homes. In May 2021, I issued an Executive Order to modernize the Federal Government's cyber defenses—creating mechanisms for agencies to quickly identify and respond to cyberattacks. I instituted minimum cybersecurity standards for critical infrastructure sectors, including mandates for the protection of pipelines, rail, and aviation. This past August, the White House hosted a Cybersecurity for K-12 Schools Summit, where we announced new resources for schools to address the threat of ransomware attacks. We launched the “U.S. Cyber Trust Mark” program with voluntarily participation from leading product manufacturers and retailers to help Americans choose safer smart devices to bring into their homes—while also establishing security standards for software purchased by the Government, helping to raise the market standard for digital technologies writ large. In July, we released a new National Cyber Workforce and Education Strategy, which will empower more Americans to pursue careers in the cyber field and strengthen our resilience for generations to come. And, as we implement historic legislation like the Inflation Reduction Act, the Bipartisan Infrastructure Law, and the CHIPS and Science Act, we are committed to incorporating cybersecurity measures into everything we build and produce—from bridges and roads to computer chips and the electrical grid.

Cyber threats cross borders, which is why we are also taking the same historic action on the global stage. In 2021, my Administration established the International Counter-Ransomware Initiative, which will convene for the third time this fall in Washington, D.C., bringing together more than 40 partners from around the globe to address the scourge of ransomware. We have created new cyber dialogues with allies and partners to enhance our collective cyber defense and deterrence—including launching a new virtual rapid response mechanism at NATO to ensure Allies can effectively and efficiently offer each other support in response to cyber incidents. And, early this year, we released a new National Cybersecurity Strategy—which will allow us to work in lockstep with our partners to ensure cyberspace is grounded in democratic values—not those of our autocratic competitors.

Our world—including our digital world—stands at an inflection point, where the decisions we make today will determine the direction of our world for decades to come. This is particularly true as we develop and enforce norms for conduct in cyberspace. We must ensure the Internet remains open, free, global, interoperable, reliable, and secure—anchored in universal values that respect human rights and fundamental freedoms. And, we must ensure that digital connectivity is a tool that uplifts and empowers, not one used for repression and coercion. Today, and every day, the United States commits to advancing this vision from a position of strength—leading in lockstep with our allies and partners everywhere who share our aspiration for a brighter digital future.

NOW, THEREFORE, I, JOSEPH R. BIDEN JR., President of the United States of America, by virtue of the authority vested in me by the Constitution and the laws of the United States, do hereby proclaim October 2023 as Cybersecurity Awareness Month. I call upon the people, businesses, and institutions of the United States to recognize and act on the importance of cybersecurity and to observe Cybersecurity Awareness Month in support of our national security and resilience. I also call upon business and institutions to take action to better protect the American people against cyber threats and create new opportunities for American workers to pursue good-paying cyber jobs. Americans can also take immediate action to better protect themselves such as turning on multifactor authentication, updating software on computers and devices, using strong passwords, and remaining cautious of clicking on links that look suspicious.

IN WITNESS WHEREOF, I have hereunto set my hand this twenty-ninth day of September, in the year of our Lord two thousand twenty-three, and of the Independence of the United States of America the two hundred and forty-eighth.

[FR Doc. 2023-22220

Filed 10-3-23; 8:45 am]

Billing code 3395-F4-P